ENVIRONMENTAL PROTECTION AGENCY

[ER-FRL-6692-1]

Environmental Impacts Statements; Notice of Availability

Responsible Agency: Office of Federal Activities, General Information (202) 564-7167 or http://www.epa.gov/compliance/nepa/.

Weekly receipt of Environmental Impact Statements Filed 10/08/2007 Through 10/12/2007 Pursuant to 40 CFR 1506.9.

EIS No. 20070430, Draft EIS, FHW, NC, NC-119 Relocation Project, Transportation Improvement from the I-185/40 Interchange Southwest of Mebane to Existing NC-119 south of NC-1918 (Mrs. White Lane) Mebane, Right-of-Way Acquisition, Alamance County, NC, Comment Period Ends: 12/03/2007, Contact: John F. Sullivan, III, PE 919-856-4346 Ext. 122.

EIS No. 20070431, Draft EIS, NOA, 00, Snapper Grouper Fishery Amendment 15A, Proposes Management Reference Points and Rebuilding Plans for Snowy Grouper, Black Sea Bass and Red Porgy, South Atlantic Region, Comment Period Ends: 12/03/2007, Contact: Roy E. Crabtree 727-824-5301.

EIS No. 20070432, Final EIS, FHW, LA, I-49 South Project, from Raceland to the Westbank Expressway Route U.S. 90, Funding, Coast Guard Bridge Permit, U.S. Army COE Section 10 and 404 Permits, Jefferson, Lafourche, and St. Charles Parishes, LA, Wait Period Ends: 11/30/2007, Contact: Carl M. Highsmith 225-757-7615.

EIS No. 20070433, Final EIS, BIA, ID, Programmatic—Coeur d'Alene Tribe Integrated Resource Management Plan, Implementation, Coeur d'Alene Reservation and Aboriginal Territory, ID, Wait Period Ends: 11/19/2007, Contact: Tiffany Allgood 208-686-8802.

EIS No. 20070434, Final EIS, USN, GU, Kilo Wharf Extension (MILCON P-52), To Provide Adequate Berthing Facilities for Multi-Purpose Dry Cargo/Ammunition Ship (the T-AKE), Apra Harbor Naval Complex, Mariana Island, GU, Wait Period Ends: 11/19/2007, Contact: Nora Macariola-See, P.E. 808-472-1402.

Amended Notices

EIS No. 20070332, Draft EIS, BLM, OR, Western Oregon Bureau of Land Management Districts of Salem, Eugene, Roseburg, Coos Bay, and Medford Districts, and the Klamath Falls Resource Area of the Lakeview District, Revision of the Resource Management Plans, Implementation, OR, Comment Period Ends: 12/10/2007, Contact: Dick Prather 503-808-6627. Revision of FR Notice Published 08/10/2007: Extending Comment Period from 11/09/2007 to 12/10/2007.

Dated: October 16, 2007.
Ken Mittelholtz,
Environmental Protection Specialist, Office of Federal Activities.

[FR Doc. E7-20631 Filed 10-18-07; 8:45 am]

BILLING CODE 6560-50-P